DEPARTMENT OF COMMERCE

National Oceanic and Atmospheric Administration

[I.D. 121800A]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee, Groundfish Oversight Committee and Scallop Oversight Committee Meeting in January 2001 to consider actions affecting New England fisheries in the exclusive economic zone (EEZ). Recommendations from these groups will be brought to the full Council for formal consideration and action, if appropriate.

DATES: The meetings will be held between Wednesday, January 10, 2001, and Monday, January 22, 2001. See SUPPLEMENTARY INFORMATION for specific dates and times.

ADDRESSES: The meetings will be held in Peabody and Danvers, MA. See SUPPLEMENTARY INFORMATION for specific locations.

Council Address: New England Fishery Management Council 50 Water Street, Mill 2, Newburyport, MA 01950, telephone (978) 465-0492.

FOR FURTHER INFORMATION CONTACT: Paul J. Howard, Executive Director, New England Fishery Management Council, telephone (978) 465-0492.

SUPPLEMENTARY INFORMATION:

Meeting Dates, Locations and Agendas

Wednesday, January 10, 2001, at 9:30 a.m. and Thursday, January 11, 2001, at 8:30 a.m.—Research Steering Committee Meeting

Location: Holiday Inn Peabody, One Newbury Street, Route 1, Peabody, MA 01960; telephone: (978) 535-4600.

Finalize priorities for Council review and for subsequent use in soliciting fisheries research proposals in 2001. Review draft Request for Proposals to be used for fisheries research proposal solicitation.

Wednesday, January 17, 2001, at 9:30 a.m.—Groundfish Oversight Committee Meeting

Location: Sheraton Ferncroft, 50 Ferncroft Road, Danvers, MA 01923; telephone: (978) 777-2500.

The Groundfish Oversight Committee will continue its development of recommendations for management alternatives for Amendment 13 to the Northeast Multispecies Fishery Management Plan. This will include recommendations on rebuilding programs, measures to address capacity issues, and the four broad approaches to management that are under consideration (status quo, adjustments to the status quo, area management, and sector allocation). The Committee may also discuss changes to existing closed areas and measures to minimize, to the extent practicable, impacts on habitat. The Committees' recommendations will be reviewed by the Council at a future date. After approval by the Council, the proposed alternatives will be analyzed and a draft supplemental environmental impact statement and public hearing document prepared.

The Committee will also identify management alternatives for a framework adjustment to reduce discards of Gulf of Maine cod and ensure mortality objectives are met for Gulf of Maine cod. The initial meeting for this framework adjustment will be at the January 23-25 Council meeting. The final meeting will not be scheduled until after receipt of an updated Gulf of Maine cod assessment in summer, 2001.

Monday, January 22, 2001, at 9:30 a.m.—Scallop Oversight Committee Meeting

Location: Sheraton Ferncroft, 50 Ferncroft Road, Danvers, MA 01923; telephone: (978) 777-2500.

The Committee will discuss new strategies for developing management alternatives for Amendment 10 and develop recommendations for the final action in Framework Adjustment 14. The Committee will meet in a closed session to review advisory panel applications.

Although non-emergency issues not contained in this agenda may come before this Council for discussion, in accordance with the Magnuson-Stevens Fishery Conservation and Management Act, those issues may not be the subject of formal Council action during this meeting. Action will be restricted to those issues specifically listed in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Paul J. Howard (see ADDRESSES) at least 5 days prior to the meeting date.

Dated: December 18, 2000.
Richard W. Surdi,
Acting Director, Office of Sustainable Fisheries, National Marine Fisheries Service.

[FR Doc. 00-32596 Filed 12-20-00; 8:45 am]

BILLING CODE: 3510-22-S